DEPARTMENT OF ENERGY

Federal Energy Regulatory Commission

Notice Soliciting Scoping Comments

May 12, 2003.

Take notice that the following hydroelectric application has been filed with the Commission and is available for public inspection:

a. Type of Application: Subsequent Minor License.

b. Project No.: 4914-010.

c. Date Filed: November 20, 2002.

d. Applicant: International Paper Company.

e. Name of Project: Nicolet Mill Dam Project.

f. Location: At the U.S. Army Corps of Engineers' De Pere Dam, on the Fox River, in the City of De Pere, Brown County, Wisconsin.

g. Filed Pursuant to: Federal Power Act 16 U.S.C.791(a)-825(r).

h. Applicant Contact: Thomas Piette, International Paper Company, 200 Main Avenue, De Pere, WI 54115, (920) 336-4211.

i. FERC Contact: Peter Leitzke, (202) 502-6059 or peter.leitzke@ferc.gov.

j. Deadline for filing scoping comments: June 26, 2003.

All documents (original and eight copies) should be filed with: Magalie R. Salas, Secretary, Federal Energy Regulatory Commission, 888 First Street, NE., Washington, DC 20426. Please include the project number (P-4914-010) on any comments or motions filed.

The Commission's rules of practice and procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's web site, http://www.ferc.gov, under the “e-Filing” link.

k. This application is not ready for environmental analysis at this time.

l. The existing Nicolet Mill Dam Project consists of the following existing facilities: (1) A 13.6 foot-high, 400-foot-long diversion structure attached to the westerly end of the U.S. Army Corps of Engineers' De Pere Dam; (2) intake works consisting of 28 gates screened with steel racks; (3) a powerhouse containing eight 135-kilowatt (kW) generating units with a total installed capacity of 1,080 kW; and (4) other appurtenances.

m. A copy of the application is available for review at the Commission in the Public Reference Room or may be viewed on the Commission's Web site at http://www.ferc.gov using the “FERRIS” link. Enter the docket number excluding the last three digits (P-4914) in the docket number field to access the document. For assistance, contact FERC Online Asupport at FERCOlineSupport@ferc.gov or call 1-866-208-3676 or for TTY, (202) 502-8659. A copy is also available for inspection and reproduction at the address in item h above.

Register online at http://www.ferc.gov/esubscribenow.htm to be notified via email of new filings and issuances related to this or other pending projects. For assistance, contact FERC Online Support at FERCOnlineSupport@ferc.gov or toll-free at 1-866-208-3676, or for TTY, (202) 502-8659.

n. Scoping Process: The Commission staff intends to prepare an Environmental Assessment (EA) for the Nicolet Mill Dam Project (FERC No. 4914-010) in accordance with the National Environmental Policy Act. The EA will consider both site-specific and cumulative environmental impacts and reasonable alternatives to the proposed action.

Commission staff does not propose to conduct any on-site scoping meetings at this time. Instead, we will solicit comments, recommendations, information, and alternatives by issuing a Scoping Document (SD).

Copies of the SD outlining the subject areas to be addressed in the EA were distributed to the parties on the Commission's mailing list. Copies of the SD may be viewed on the Web at http://www.ferc.gov using the “FERRIS” link. Enter the docket number excluding the last three digits in the docket number field to access the document. For assistance, call 1-866-208-3676 or for TTY (202) 502-8659.

Magalie R. Salas,
Secretary.

[FR Doc. 03-12333 Filed 5-15-03; 8:45 am]

BILLING CODE 6717-01-P